DEPARTMENT OF ENERGY

Federal Energy Regulatory Commission

[Docket No. EL13-10-000]

North American Natural Resources, Inc. Complainant v. PJM Interconnection, L.L.C, American Electric Power Service Corporation, Indiana Michigan Power Company, Respondents; Notice of Complaint

Take notice that on October 2, 2012, pursuant to section 206 of the Federal Energy Regulatory Commission's (Commission) Rules of Practice and Procedure, 18 CFR 385.206 and sections 206 of the Federal Power Act (FPA), 16 U.S.C. 824(e), North American Natural Resource, Inc. (NSANR) filed a formal complaint against PJM Interconnection, L.L.C, (PJM), American Electric Power Service Corporation (AEP), and AEP's wholly owned subsidiary Indiana Michigan Power Company (I & M) alleging, that contrary to sections 1.7A.02, 1.3A, 1.17A, 1.26, 212.4, 217.3, 205, 206 and 217 of PJM's Open Access Transmission Tariff (OATT), the Interconnection Construction Service Agreement (ICSA) between AEP and NANR, the Interconnection Service Agreement (ISA) between AEP and NANR, the Commission's Order No. 2003 ¹ and other applicable FERC decisions, and the FPA, AEP and PJM have refused to properly categorize $2,269,012 of the interconnection costs as Network Upgrades and allocate those costs to AEP and its customers, failed to update AEP's Regional Transmission System Expansion (RTEP) and wrongfully foisted the costs of the Network Upgrades onto NANR by mischaracterizing them as Attachment Facilities, and wrongfully utilized the interconnection of Project T-111 as a means of upgrading its inadequate 69 kV line, which had previously not included adequate re-closing or breaker failure protection, and replacing obsolete relays and other equipment.

¹ Standardization of Generator Interconnection Agreements and Procedure, Order No. 2003, 104 FERC ¶ 61,103 (2003).

NANR certifies that copies of the complaint were served on the contacts for PJM, AEP, and I & M as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on October 22, 2012.

Dated: October 3, 2012.
Kimberly D. Bose,
Secretary.

[FR Doc. 2012-24908 Filed 10-9-12; 8:45 am]

BILLING CODE 6717-01-P